DEPARTMENT OF STATE

[Public Notice 8336]

30-Day Notice of Proposed Information Collection: Young Turkey/Young America Evaluation (YTYA) Survey

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATE(S): Submit comments directly to the Office of Management and Budget (OMB) up to June 27, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Michelle Hale, U.S. Department of State, ECA/P/V, SA-44, Room 664, Washington, DC 20547-4406, who may be reached on 202-203-7205 or at halemj2@state.gov.

SUPPLEMENTARY INFORMATION: • Title of Information Collection: Young Turkey/Young America Evaluation (YTYA) Survey.

• OMB Control Number: None.

• Type of Request: New Collection.

• Originating Office: Bureau of Educational and Cultural Affairs, ECA/P/V.

• Form Number: SV2013-0001.

• Respondents: The Turkish and American YTYA Program participants from 2009 to 2011.

• Estimated Number of Respondents: 235.

• Estimated Number of Responses: 153.

• Average Time per Response: 30 minutes.

• Total Estimated Burden Time: 77 hours.

• Frequency: One time.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

This request for a new information collection will allow ECA/P/V to conduct a survey to provide data not currently available. The survey is designed to assess the effectiveness of the YTYA Program in achieving its stated goals and objectives, and assess the outcomes of this two-way, bi-lateral exchange program that included 235 young Turkish and young American participants from 2009 to 2011. This study is authorized by the Mutual Educational and Cultural Exchange Act of 1961, as amended (also known as the Fulbright-Hays Act) (22 U.S.C. 2451 et seq.). The survey will be sent electronically to be completed via web survey to all program participants of the years stated above. Data gathered will enable analysis that can potentially be used to design similar bi-lateral exchange programs, improve existing programs, and to inform ongoing and future exchange programs in ECA.

Methodology:

The survey and all notifications will be entirely electronic to ease any burden on the participant. The survey will be distributed and responses received electronically using the survey application Vovici.

Dated: May 17, 2013.
Matt Lussenhop,
Director of the Office of Policy and Evaluation, Bureau of Educational and Cultural Affairs, Department of State.

[FR Doc. 2013-12609 Filed 5-24-13; 8:45 am]

BILLING CODE 4710-05-P